DEPARTMENT OF ENERGY

Federal Energy Regulatory Commission

Combined Notice of Filings #1

Take notice that the Commission received the following electric corporate filings:

Docket Numbers: EC18-2-000.

Applicants: Oncor Electric Delivery Company LLC, Sempra Energy.

Description: Joint Application for Expedited Approval of the Disposition of Jurisdictional Facilities under Section 203 of the FPA of Oncor Electric Delivery Company LLC, et al.

Filed Date: 10/5/17.

Accession Number: 20171005-5145.

Comments Due: 5 p.m. ET 10/26/17.

Take notice that the Commission received the following electric rate filings:

Docket Numbers: ER10-2487-004; ER15-2380-002.

Applicants: Pacific Summit Energy LLC, Willey Battery Utility, LLC.

Description: Supplement to June 27, 2017 Triennial Market Power Update for the Northeast Region of the Sumitomo Companies.

Filed Date: 10/6/17.

Accession Number: 20171006-5085.

Comments Due: 5 p.m. ET 10/27/17.

Docket Numbers: ER15-1029-003.

Applicants: Chubu TT Energy Management Inc.

Description: Clarification to June 30, 2017 Triennial Market Power Update for the Northeast Region of Chubu TT Energy Management Inc.

Filed Date: 10/5/17.

Accession Number: 20171005-5153.

Comments Due: 5 p.m. ET 10/26/17.

Docket Numbers: ER17-2340-000.

Applicants: Golden Hills North Wind, LLC.

Description: Amendment to August 21, 2017 Golden Hills North Wind, LLC tariff.

Filed Date: 10/4/17.

Accession Number: 20171004-5162.

Comments Due: 5 p.m. ET 10/16/17.

Docket Numbers: ER17-2381-000.

Applicants: Scott-II Solar LLC.

Description: Third Supplement to August 30, 2017 Scott-II Solar LLC tariff filing.

Filed Date: 10/6/17.

Accession Number: 20171006-5099.

Comments Due: 5 p.m. ET 10/27/17.

Docket Numbers: ER18-1-001.

Applicants: California Independent System Operator Corporation.

Description: Tariff Amendment: 2017-10-05 Amendment to Filing to Correct Tariff Record RSI Phase 1B and Phase 2 to be effective 2/15/2018.

Filed Date: 10/5/17.

Accession Number: 20171005-5139.

Comments Due: 5 p.m. ET 10/26/17.

Docket Numbers: ER18-33-000.

Applicants: Niagara Mohawk Power Corporation, New York Independent System Operator, Inc.

Description: Tariff Cancellation: Niagara Mohawk filing—cancellation of SGIA 1488 w/Selkirk Cogen Partners to be effective 12/6/2017.

Filed Date: 10/6/17.

Accession Number: 20171006-5027.

Comments Due: 5 p.m. ET 10/27/17.

Docket Numbers: ER18-34-000.

Applicants: Mid-Atlantic Interstate Transmission, LLC, PJM Interconnection, L.L.C.

Description: § 205(d) Rate Filing: MAIT submits Engineering and Construction Services Agreement SA No. 4718 to be effective 12/6/2017.

Filed Date: 10/6/17.

Accession Number: 20171006-5031.

Comments Due: 5 p.m. ET 10/27/17.

Docket Numbers: ER18-35-000.

Applicants: Public Service Company of Colorado.

Description: § 205(d) Rate Filing: PSCo-HLYCRS-O&M Agrmt-430-0.0.0 Filing to be effective 6/1/2017.

Filed Date: 10/6/17.

Accession Number: 20171006-5033.

Comments Due: 5 p.m. ET 10/27/17.

Docket Numbers: ER18-36-000.

Applicants: PJM Interconnection, L.L.C.

Description: § 205(d) Rate Filing: Queue Position #AA1-043, Original Service Agreement No. 4807 to be effective 9/6/2017.

Filed Date: 10/6/17.

Accession Number: 20171006-5063.

Comments Due: 5 p.m. ET 10/27/17.

Docket Numbers: ER18-37-000.

Applicants: Southern California Edison Company.

Description: § 205(d) Rate Filing: GIA & Amended DSA Phoenix Wind Project SA Nos 971 & 17 to be effective 10/7/2017.

Filed Date: 10/6/17.

Accession Number: 20171006-5090.

Comments Due: 5 p.m. ET 10/27/17.

Docket Numbers: ER18-38-000.

Applicants: DV Trading, LLC.

Description: Baseline eTariff Filing: DV Trading New Company's Tariff (Initial Tariff Baseline) to be effective 10/15/2017.

Filed Date: 10/6/17.

Accession Number: 20171006-5131.

Comments Due: 5 p.m. ET 10/27/17.

Docket Numbers: ER18-39-000.

Applicants: Midcontinent Independent System Operator, Inc.

Description: § 205(d) Rate Filing: 2017-10-06_Continuous Improvement_Misc Revisions, Improvements & Clarifications to be effective 12/6/2017.

Filed Date: 10/6/17.

Accession Number: 20171006-5163.

Comments Due: 5 p.m. ET 10/27/17.

Docket Numbers: ER18-40-000.

Applicants: Midcontinent Independent System Operator, Inc.

Description: § 205(d) Rate Filing: 2017-10-06_Continuous Improvement 2_Developer Recertification Enhancements to be effective 12/6/2017.

Filed Date: 10/6/17.

Accession Number: 20171006-5172.

Comments Due: 5 p.m. ET 10/27/17.

Take notice that the Commission received the following electric securities filings:

Docket Numbers: ES18-2-000.

Applicants: Mississippi Power Company.

Description: Application of Mississippi Power Company for Extension of Authorization to Issue Securities under Section 204 of the Federal Power Act and of Exemption from Competitive Bidding Requirements and Request for Expedited Action.

Filed Date: 10/4/17.

Accession Number: 20171004-5177.

Comments Due: 5 p.m. ET 10/25/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 6, 2017.
Nathaniel J. Davis, Sr.,
Deputy Secretary.

[FR Doc. 2017-22274 Filed 10-13-17; 8:45 am]

BILLING CODE 6717-01-P